COMMODITY FUTURES TRADING COMMISSION

SECURITIES AND EXCHANGE COMMISSION

[Release No. 34-62864; File No. 4-612]

Joint Public Roundtable on Swap Execution Facilities and Security-Based Swap Execution Facilities

AGENCY: Commodity Futures Trading Commission (“CFTC”) and Securities and Exchange Commission (“SEC”) (each, an “Agency,” and collectively, the “Agencies”).

ACTION: Notice of roundtable discussion; request for comment.

SUMMARY: On September 15, 2010, commencing at 9 a.m. and ending at 12:30 p.m., staff of the Agencies will hold a public roundtable discussion at which invited participants will discuss swap execution facilities and security-based swap execution facilities in the context of certain authority that Sections 733 and 763 of the Dodd-Frank Wall Street Reform and Consumer Protection Act (the “Act”) granted to the Agencies respectively. The discussion will be open to the public with seating on a first-come, first-served basis. Members of the public may also listen by telephone. Call-in participants should be prepared to provide their first name, last name, and affiliation. The information for the conference call is set forth below.

• US/Canada Toll-Free: 877-732-6422

• Conference ID: 7772

A transcript of the public roundtable discussion will be published on the SEC's mandatory exchange trading and swap execution facilities rulemaking page at http://www.sec.gov/spotlight/regreformcomments.shtml. The transcript also will be available by a link on the CFTC's SEF Registration Requirements and Core Principle Rulemaking, Interpretation & Guidance Web page at http://www.cftc.gov/LawRegulation/OTCDerivatives/otc_rules.html. The roundtable discussion will take place in the Auditorium (Room L-002) at the SEC Headquarters located at 100 F Street, NE., Washington, DC.

FOR FURTHER INFORMATION CONTACT: the CFTC's Office of Public Affairs at (202) 418-5080 or the SEC's Office of Public Affairs at (202) 551-4120.

SUPPLEMENTARY INFORMATION: The roundtable discussion will take place on Wednesday, September 15, 2010, commencing at 9 a.m. and ending at 12:30 p.m. Commenters are also encouraged to submit views on swap execution facilities and security-based swap execution facilities that would help inform the discussion at the roundtable. Members of the public who wish to submit comments may do so via:

• paper submission to David Stawick, Secretary, Commodity Futures Trading Commission, Three Lafayette Centre, 1155 21st Street, NW., Washington, DC 20581, or Elizabeth M. Murphy, Secretary, Securities and Exchange Commission, 100 F Street, NE., Washington, DC 20549-1090; or

• by e-mail to SEFRules@CFTC.gov; and/or by e-mail to rule-comments@sec.gov or through the comment form available at: http://www.sec.gov/rules/other.shtml.

All submissions will be reviewed jointly by the Agencies. All comments must be in English or be accompanied by an English translation. All submissions provided to either Agency in any electronic form or on paper will be published on the website of the respective Agency, without review and without removal of personally identifying information. Please submit only information that you wish to make publicly available.

By the Securities and Exchange Commission.
Dated: September 8, 2010.
Elizabeth M. Murphy,
Secretary.
By the Commodity Futures Trading Commission.
Dated: September 8, 2010.
David A. Stawick,
Secretary .

[FR Doc. 2010-22725 Filed 9-10-10; 8:45 am]

BILLING CODE 6351-01-P; -8010-01-P